DEPARTMENT OF AGRICULTURE

Forest Service

Lake County Resource Advisory Committee

AGENCY: Forest Service, USDA.

ACTION: Notice of Meeting.

SUMMARY: The Lake County Resource Advisory Committee (RAC) will hold a meeting.

DATES: The meeting will be held on September 20, 2012 from 3 p.m. to 5 p.m.

ADDRESSES: The meeting will be held at the Lake County Board of Supervisor's Chambers at 255 North Forbes Street, Lakeport or Conference Room C.

FOR FURTHER INFORMATION CONTACT: Debbie McIntosh, Committee Coordinator, USDA, Mendocino National Forest, Upper Lake Ranger District, 10025 Elk Mountain Road, Upper Lake, CA 95485.

(707) 275-1407: EMAIL dmcintosh@fs.fed.us.

SUPPLEMENTARY INFORMATION: Agenda items to be covered include:

(1) Roll Call/Establish Quorum; (2) Review Minutes from the April 14, 2012 Meeting; (3) Past Project Review and Discussion; (4) Discuss Project Cost Accounting USFS/County of Lake; (5) Public Comment Period; Public input opportunity will be provided and individuals will have the opportunity to address the Committee at that time. (6) Adjourn.

Dated: September 4, 2012.
Lee D. Johnson,
Designated Federal Officer.

[FR Doc. 2012-22548 Filed 9-17-12; 8:45 am]

BILLING CODE 3410-11-M